ENVIRONMENTAL PROTECTION AGENCY

[FRL-11553-01-OA]

Local Government Advisory Committee (LGAC): Notice of Charter Renewal

AGENCY: Environmental Protection Agency (EPA).

ACTION: Notice.

Notice is hereby given that the Environmental Protection Agency (EPA) has determined that, in accordance with the provisions of the Federal Advisory Committee Act (FACA), 5 U.S.C. app. 2., the Local Government Advisory Committee (LGAC) is in the public interest and is necessary in connection with the performance of EPA's duties. Accordingly, the LGAC will be renewed for an additional two-year period. The purpose of the LGAC is to provide advice and recommendations to EPA's Administrator on ways to improve its partnership with local governments and provide more efficient and effective environmental protection.

FOR FURTHER INFORMATION CONTACT: Paige Lieberman, Designated Federal Officer, LGAC, U.S. EPA, at (202) 564-9957/LGAC@epa.gov.

Dated: November 9, 2023.
Paige Lieberman,
EPA Designated Federal Officer, Local Government Advisory Committee.

[FR Doc. 2023-25233 Filed 11-14-23; 8:45 am]

BILLING CODE 6560-50-P